DEPARTMENT OF THE INTERIOR

National Park Service

[NPS-WASO-NAGPRA-NPS0032216; PPWOCRADN0-PCU00RP14.R50000]

Notice of Inventory Completion: Illinois State Museum, Springfield, IL

AGENCY: National Park Service, Interior.

ACTION: Notice.

SUMMARY: The Illinois State Museum has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Illinois State Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Illinois State Museum at the address in this notice by August 5, 2021.

FOR FURTHER INFORMATION CONTACT: Dr. Brooke M. Morgan, Curator of Anthropology, Illinois State Museum, 1011 East Ash Street, Springfield, IL 62703, telephone (217) 785-8930, email brooke.morgan@illinois.gov.

SUPPLEMENTARY INFORMATION: Notice is here given in accordance with the Native American Graves Protection and Repatriation Act (NAGPRA), 25 U.S.C. 3003, of the completion of an inventory of human remains and associated funerary objects under the control of the Illinois State Museum, Springfield, IL. The human remains and associated funerary objects were removed from the Zimmerman archeological site in LaSalle County, IL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Illinois State Museum professional staff in consultation with representatives of the Peoria Tribe of Indians of Oklahoma.

History and Description of the Remains

In 1970, human remains representing, at minimum, five individuals were removed from the Zimmerman site (11LS13) in LaSalle County, IL, during archeological excavation by Dr. Margaret K. Brown on behalf of the LaSalle County Historical Society, Utica, IL. All five individuals were found in a single burial pit identified as Feature 13. One individual was buried in an extended position and the others were buried in a bundle. The extended burial (Burial 23) was that of an infant. The bundle contained the remains of an adult male 25-35 years old (Burial 24), two infants both around two years of age (Burials 25A and 25B), and the partial skeleton of an adult female (Burial 26). Based on skeletal traits and archeological context, these five individuals have been determined to be Native American. The human remains were housed at the LaSalle County Historical Society following Dr. Brown's excavations. As early as the 1990s, they were thought to be lost; in 2010, the collection was rediscovered. In 2011, the human remains and associated funerary objects were transferred to the Illinois State Museum. No known individuals were identified. The eight associated funerary objects are seven blue glass beads and one cut deer mandible that were found in association with Burials 25A and/or 25B.

The Zimmerman site, also known as the Grand Village of the Kaskaskia and Grand Village of the Illinois State Historic Site, is a multicomponent pre- and post-contact village site located on the north bank of the Illinois River opposite Starved Rock State Park. French Jesuit missionary Jacques Marquette and explorer Louis Jolliet encountered the Grand Village on their 1673 voyage up the Illinois River and documented it in their journals. The Grand Village of the Kaskaskia served as a large permanent summer residence for the Kaskaskia, Peoria, Cahokia, and other members of the Illinois Confederation during the 17th century. European trade goods indicate the individuals from Feature 13 represent post-contact burials of the Illinois Confederation. The Illinois Confederation's present-day descendants are members of the Peoria Tribe of Indians of Oklahoma.

Determinations Made by the Illinois State Museum

Officials of the Illinois State Museum have determined that:

• Pursuant to 25 U.S.C. 3001(9), the human remains described in this notice represent the physical remains of five individuals of Native American ancestry.

• Pursuant to 25 U.S.C. 3001(3)(A), the eight objects described in this notice are reasonably believed to have been placed with or near individual human remains at the time of death or later as part of the death rite or ceremony.

• Pursuant to 25 U.S.C. 3001(2), there is a relationship of shared group identity that can be reasonably traced between the Native American human remains and associated funerary objects and the Peoria Tribe of Indians of Oklahoma.

Additional Requestors and Disposition

Lineal descendants or representatives of any Indian Tribe or Native Hawaiian organization not identified in this notice that wish to request transfer of control of these human remains and associated funerary objects should submit a written request with information in support of the request to Dr. Brooke M. Morgan, Curator of Anthropology, Illinois State Museum, 1011 East Ash St., Springfield, IL 62703, telephone (217) 785-8930, email brooke.morgan@illinois.gov, by August 5, 2021. After that date, if no additional requestors have come forward, transfer of control of the human remains and associated funerary objects to the Peoria Tribe of Indians of Oklahoma may proceed.

The Illinois State Museum is responsible for notifying the Peoria Tribe of Indians of Oklahoma that this notice has been published.

Dated: June 28, 2021.
Melanie O'Brien,
Manager, National NAGPRA Program.

[FR Doc. 2021-14309 Filed 7-2-21; 8:45 am]

BILLING CODE 4312-52-P